DEPARTMENT OF HEALTH AND HUMAN SERVICES

National Toxicology Program (Ntp); Center for the Evaluation of Risks to Human Reproduction (CERHR); Announcement of the Second Bisphenol A Expert Panel Meeting

AGENCY: National Institute of Environmental Health Sciences (NIEHS); National Institutes of Health.

ACTION: Meeting announcement and request for comments.

SUMMARY: CERHR announces the second meeting of the CERHR Expert Panel on Bisphenol A on August 6-8, 2007, at the Hilton Alexandria Old Town in Alexandria, VA. This meeting is open to the public with time scheduled for oral public comment. Attendance is limited only by the available meeting space.

DATES: The second expert panel meeting on bisphenol A will be held August 6-8, 2007. The interim draft expert panel report containing sections 1-4 is currently available for public comment [Federal Register, May 1, 2007 (Vol. 72, No. 83, pages 23833-4)]. Written public comments on the interim draft report must be received by June 20, 2007. July 30, 2007 is the deadline for pre-registration to attend the meeting, to pre-register to provide oral comments, and to submit written materials intended to supplement the oral remarks.

ADDRESSES: The second expert panel meeting will be held at the Hilton Alexandria Old Town, 1767 King Street, Alexandria, VA (located across the street from the King Street Metro Stop). Written comments should be sent to Dr. Michael D. Shelby, CERHR Director [NIEHS, P.O. Box 12233, MD EC-32, Research Triangle Park, NC 27709 (mail), (919) 316-4511 (fax), or shelby@niehs.nih.gov (e-mail)]. Courier address: CERHR, 79 T.W. Alexander Drive, Building 4401, Room 103, Research Triangle Park, NC 27709.

FOR FURTHER INFORMATION CONTACT: Dr. Michael D. Shelby, CERHR Director, 919-541-3455, shelby@niehs.nih.gov.

SUPPLEMENTARY INFORMATION:

Background

CERHR convened the expert panel on March 5-7, 2007 to complete its report on the potential reproductive and developmental hazards of bisphenol A. The panel discussed and made revisions to the draft expert panel report, but because of the length and complexity of this evaluation, the panel was unable to complete its task. Information about the meeting and the draft interim expert panel report, which shows all edits to date, are available on the CERHR Web site (http://cerhr.niehs.nih.gov/chemicals/bisphenol/bisphenol.html).

The expert panel will reconvene on August 6-8, 2007, for a second meeting at the Hilton Alexandria Old Town, 1767 King Street, Alexandria, VA. The meeting will begin each day at 8:30 a.m. and continue until adjournment. It is anticipated to adjourn by noon on August 8, although adjournment may occur earlier or later depending upon the time needed for the expert panel to complete its work. The expert panel will (1) continue its review, (2) finalize sections 1-4 of the draft report, (3) reach conclusions regarding whether exposure to bisphenol A is a hazard to human reproduction or development, and (4) write Section 5 Summary, Conclusions, and Critical Data Needs. The interim draft report will serve as the starting point for the expert panel's discussions at its August meeting.

Bisphenol A (CAS RN: 80-5-07) is a high production volume chemical used in the production of epoxy resins, polyester resins, polysulfone resins, polyacrylate resins, polycarbonate plastics, and flame retardants. Polycarbonate plastics are used in food and drink packaging; resins are used as lacquers to coat metal products such as food cans, bottle tops, and water supply pipes. Some polymers used in dental sealants and tooth coatings contain bisphenol A. Exposure to the general population can occur through direct contact to bisphenol A or by exposure to food or drink that has been in contact with a material containing bisphenol A. CERHR selected this chemical for evaluation because of (1) high production volume, (2) widespread human exposure, (3) evidence of reproductive toxicity in laboratory animal studies, and (4) public concern.

Request for Comments

The CERHR again invites written public comments on the interim draft expert panel report on bisphenol A. All public comments received on the interim draft report will be posted on the CERHR Web site prior to the August meeting and distributed to all expert panel members for their consideration in revising the interim draft report and/or preparing for the second meeting. Persons submitting written comments are asked to include their name and contact information (affiliation, mailing address, telephone and facsimile numbers, e-mail, and sponsoring organization, if any) and send them to Dr. Shelby (see ADDRESSES above) for receipt by June 20, 2007.

Time will be set aside on August 6, 2007, for the presentation of oral public comments at the expert panel meeting. Seven minutes will be available for each speaker (one speaker per organization). Persons wishing to make oral remarks are asked to contact CERHR by July 30 (see ADDRESSES above) and, if possible, send a copy of the PowerPoint slides, statement, or talking points by July 30. When registering to comment orally, please provide your name, affiliation, mailing address, telephone and facsimile numbers, e-mail and sponsoring organization (if any). Any written statement will be provided to the expert panel members to assist them in identifying issues for discussion and noted in the meeting record. Registration for presentation of oral comments will also be available at the meeting on August 6, 2007, from 7:30-8:30 a.m. Persons registering at the meeting are asked to bring 20 copies of their statement or talking points for distribution to the expert panel and for the record.

Background Information on CERHR

NTP established CERHR in June 1998 [Federal Register, December 14, 1998 (Volume 63, Number 239, page 68782)]. CERHR is a publicly accessible resource for information about adverse reproductive and/or developmental health effects associated with exposure to environmental and/or occupational exposures. CERHR follows a formal, multi-step process for review and evaluation of selected chemicals. Expert panels conduct scientific evaluations of agents selected by the CERHR in public forums.

CERHR invites the nomination of agents for review or scientists for its expert registry. Information about CERHR and the nomination process can be obtained from its homepage (http://cerhr.niehs.nih.gov) or by contacting Dr. Shelby (see FOR FURTHER INFORMATION CONTACT above). CERHR selects chemicals for evaluation based upon several factors including production volume, potential for human exposure from use and occurrence in the environment, extent of public concern, and extent of data from reproductive and developmental toxicity studies.

CERHR follows a formal, multi-step process for review and evaluation of selected chemicals. Information about the process and CERHR is available on the CERHR Web site under “About CERHR” or in printed copy from CERHR.

Dated: June 6, 2007.
Samuel H. Wilson,
Deputy Director, National Institute of Environmental Health Sciences and National Toxicology Program.

[FR Doc. E7-11590 Filed 6-14-07; 8:45 am]

BILLING CODE 4140-01-P